The Committee for Purchase From People Who Are Blind or Severely Disabled

Quarterly Public Meeting

AGENCY: Committee for Purchase From People Who Are Blind or Severely Disabled.

ACTION: Notice of public meeting.

SUMMARY: The Committee is announcing a virtual public meeting to be held February 10, 2022.

DATES: Registration is due no later than: February 8, 2022.

FOR FURTHER INFORMATION CONTACT: For further information or to submit comments contact: Angela Phifer, Telephone: (703) 798-5873 or email CMTEFedReg@AbilityOne.gov.

SUPPLEMENTARY INFORMATION: This notice is published pursuant to 41 U.S.C. 8503(a)(2) and 41 CFR 51-2.3. Its purpose is to provide interested persons an opportunity to register to attend a public meeting.

Summary: This notice provides information to access and participate in the February 10, 2022 regular quarterly public meeting of the Committee for Purchase From People Who Are Blind or Severely Disabled, operating as the U.S. AbilityOne Commission (Commission), via webinar. The Commission oversees the AbilityOne Program, which provides employment opportunities through federal contracts for people who are blind or have significant disabilities in the manufacture and delivery of products and services to the Federal Government. The Javits-Wagner-O'Day Act (41 U.S.C. Chapter 85) authorizes the contracts and established 15 Presidential appointees, including private citizens conversant with the employment interests and concerns of people who are blind or significantly disabled. Presidential appointees also include representatives of federal agencies. The public meetings include updates from the Commission and staff.

Date and Time: February 10, 2022, from 1:00 p.m. to 4:00 p.m., ET.

Place: This meeting will occur via Zoom webinar.

Commission Statement: As the Commission implements new strategies and priorities, we are committed to public meetings that provide substantive information. These meetings also provide an opportunity for input from the disability community and other stakeholders. For the meeting on February 10, 2022, the Commission invites comments or suggestions regarding:

1. The Individual Eligibility Evaluation (IEE) forms used by the Commission as documentation of significant disability.

2. Third party certification or verification of significant disability.

Registration: Attendees must register not later than 11:59 p.m. EDT on Tuesday, February 8, 2022. The registration link will be accessible on the Commission's home page, www.abilityone.gov, not later than Monday, January 10, 2022. During registration, you may choose to submit comments, or you may request speaking time at the meeting. Comments submitted via the registration link will be reviewed with the Commission members prior to the meeting. The Commission may invite some attendees who submit advance comments to speak to their comments during the meeting. Comments posted in the chat box during the meeting will be shared with the Commission members after the meeting.

Personal Information: Do not include any information that you do not want publicly disclosed.

For Further Information, Contact: Angela Phifer, (703) 798-5873.

The Commission is not subject to the requirements of 5 U.S.C. 552(b); however, the Commission published this notice to encourage the broadest possible participation in its February 10, 2022 public meeting.

Michael R. Jurkowski,
Acting Director, Business Operations.

[FR Doc. 2021-27391 Filed 12-17-21; 8:45 am]

BILLING CODE 6353-01-P